NUCLEAR REGULATORY COMMISSION

10 CFR Parts 2 and 52

[NRC-2019-0170]

RIN 3150-AK37

Organizational Changes and Conforming Amendments; Correction

AGENCY: Nuclear Regulatory Commission.

ACTION: Final rule; correction.

SUMMARY: The U.S. Nuclear Regulatory Commission (NRC) is correcting a final rule that appeared in the Federal Register on November 29, 2019, and was corrected on December 5, 2019. The document amended the NRC's regulations to reflect internal organizational changes and make conforming amendments, including removing all references to the Office of New Reactors because that office has merged with the Office of Nuclear Reactor Regulation, changing the names of divisions that are affected by the reorganization of the Office of Nuclear Material Safety and Safeguards, and making conforming amendments throughout the regulations to reflect the office merger and the office reorganization.

DATES: Effective on December 30, 2019.

ADDRESSES: Please refer to Docket ID NRC-2019-0170 when contacting the NRC about the availability of information for this action. You may obtain publicly-available information related to this action by any of the following methods:

• Federal Rulemaking Website: Go to https://www.regulations.gov and search for Docket ID NRC-2019-0170. Address questions about NRC dockets to Carol Gallagher; telephone: 301-415-3463; email: Carol.Gallagher@nrc.gov.

• NRC's Agencywide Documents Access and Management System (ADAMS): You may obtain publicly-available documents online in the ADAMS Public Documents Collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Jill Shepherd, Office of Nuclear Material Safety and Safeguards, U.S. Nuclear Regulatory Commission, Washington, DC 20555-0001; telephone: 301-415-1230; email: Jill.Shepherd@nrc.gov.

SUPPLEMENTARY INFORMATION: In FR Doc. 2019-25847 appearing on page 65639 in the Federal Register of Friday, November 29, 2019, the following corrections are made:

§ 2.101 [Corrected]

1. On page 65643, in the second column, in part 2, in amendment 6, instruction 6.j. is corrected and instructions 6.k. through 6.o. are added to read as follows:

6. * * *

j. In paragraph (e)(3), remove “or as appropriate”;

k. In paragraph (e)(6), wherever they appear, remove “, as appropriate” and “as appropriate”;

l. In paragraph (e)(7), remove “, as appropriate”;

m. In paragraphs (e)(8), (f)(1)(iii), and (f)(2)(i)(A) and (C), remove “as appropriate”;

n. In paragraph (f)(3), wherever they appear, remove “as appropriate” and “or, as appropriate”; and

o. In paragraphs (f)(4) and (5), remove “as appropriate”.

§ 52.1 [Corrected]

2. On page 65645, in the second column, in part 52, in amendment 36, the instruction “In § 52.1(a), in the definition for Limited work authorization, remove “Director of New Reactors or the” is corrected to read “In § 52.1(a), in the definition for Limited work authorization, remove “Director of New Reactors or the Director of Nuclear Reactor Regulation” and add in its place “Director of the Office of Nuclear Reactor Regulation”.

§ 52.35 [Corrected]

3. On page 65645, in the second column, in part 52, in amendment 38, the instruction “In § 52.35, remove “Director, Office of New Reactors or Director, Office of Nuclear Reactor Regulation, as appropriate,” and add in its place “Director, Office of Nuclear Reactor Regulation,” is corrected to read “In § 52.35, remove “Director, Office of New Reactors or Director, Office of Nuclear Reactor Regulation, as appropriate, (Director)” and add in its place “Director, Office of Nuclear Reactor Regulation (Director),”.

Dated at Rockville, Maryland, this 11th day of December 2019.
For the Nuclear Regulatory Commission.
Cindy K. Bladey,
Chief, Regulatory Analysis and Rulemaking Support Branch, Division of Rulemaking, Environmental, and Financial Support, Office of Nuclear Material Safety and Safeguards.

[FR Doc. 2019-27118 Filed 12-16-19; 8:45 am]

BILLING CODE 7590-01-P